DEPARTMENT OF HOMELAND SECURITY

Federal Emergency Management Agency

44 CFR Part 64

[Docket No. FEMA-7993]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

ADDRESSES: If you want to determine whether a particular community was suspended on the suspension date, contact the appropriate FEMA Regional Office.

FOR FURTHER INFORMATION CONTACT: David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Vermont:
Andover, Town of, Windsor County | 500291 | April 30, 1975, Emerg; August 5, 1985, Reg; September 28, 2007, Susp | Sept. 28, 2007 | Sept. 28, 2007.
Barnard, Town of, Windsor County | 500292 | June 16, 1975, Emerg; September 18, 1985, Reg; September 28, 2007, Susp | ......do* | Do.
Bethel, Town of, Windsor County | 500143 | November 1, 1974, Emerg; August 5, 1991, Reg; September 28, 2007, Susp | ......do | Do.
Brattleboro, Town of, Windham County | 500126 | October 23, 1973, Emerg; December 4, 1985, Reg; September 28, 2007, Susp | ......do | Do.
Cavendish, Town of, Windsor County | 500145 | August 6, 1974, Emerg; October 15, 1981, Reg; September 28, 2007, Susp | ......do | Do.
Chester, Town of, Windsor County | 500146 | July 3, 1975, Emerg; March 4, 1980, Reg; September 28, 2007, Susp | ......do | Do.
Dover, Town of, Windham County | 500127 | July 21, 1976, Emerg; July 1, 1991, Reg; September 28, 2007, Susp | ......do | Do.
Dummerston, Town of, Windham County | 500128 | July 23, 1975, Emerg; June 17, 1991, Reg; September 28, 2007, Susp | ......do | Do.
Guilford, Town of, Windham County | 500130 | September 4, 1975, Emerg; June 3, 1986, Reg; September 28, 2007, Susp | ......do | Do.
Hartford, Town of, Windsor County | 500148 | February 11, 1972, Emerg; July 2, 1979, Reg; September 28, 2007, Susp | ......do | Do.
Hartland, Town of, Windsor County | 500149 | June 3, 1993, Emerg; June 3, 1993, Reg; September 28, 2007, Susp | ......do | Do.
Jamaica, Town of, Windham County | 500131 | August 7, 1975, Emerg; May 5, 1981, Reg; September 28, 2007, Susp | ......do | Do.
Londonderry, Town of, Windham County | 500132 | July 24, 1975, Emerg; April 1, 1992, Reg; September 28, 2007, Susp | ......do | Do.
Ludlow, Town of, Windsor County | 500150 | October 11, 1974, Emerg; September 1, 1978, Reg; September 28, 2007, Susp | ......do | Do.
Ludlow, Village of, Windsor County | 500294 | October 11, 1974, Emerg; September 1, 1978, Reg; September 28, 2007, Susp | ......do | Do.
Norwich, Town of, Windsor County | 500295 | June 7, 1974, Emerg; June 15, 1988, Reg; September 28, 2007, Susp | ......do | Do.
Plymouth, Town of, Windsor County | 500151 | November 21, 1975, Emerg; June 19, 1989, Reg; September 28, 2007, Susp | ......do | Do.
Pomfret, Town of, Windsor County | 500297 | October 17, 1975, Emerg; September 18, 1985, Reg; September 28, 2007, Susp | ......do | Do.
Putney, Town of, Windham County | 500134 | June 24, 1975, Emerg; September 18, 1985, Reg; September 28, 2007, Susp | ......do | Do.
Reading, Town of, Windsor County | 500152 | May 8, 1975, Emerg; May 4, 1989, Reg; September 28, 2007, Susp | ......do | Do.
Rochester, Town of, Windsor County | 500299 | July 25, 1975, Emerg; August 5, 1991, Reg; September 28, 2007, Susp | ......do | Do.
Royalton, Town of, Windsor County | 500153 | July 24, 1975, Emerg; January 16, 1981, Reg; September 28, 2007, Susp | ......do | Do.
Sharon, Town of, Windsor County | 500300 | June 16, 1995, Emerg, Reg; September 28, 2007, Susp | ......do | Do.
Springfield, Town of, Windsor County | 500154 | June 17, 1975, Emerg; December 4, 1979, Reg; September 28, 2007, Susp | ......do | Do.
Stockbridge, Town of, Windsor County | 500155 | July 8, 1975, Emerg; September 4, 1986, Reg; September 28, 2007, Susp | ......do | Do.
Townshend, Town of, Windham County | 500136 | July 25, 1975, Emerg; September 18, 1985, Reg; September 28, 2007, Susp | ......do | Do.
Vernon, Town of, Windham County | 500137 | June 25, 1975, Emerg; September 27, 1991, Reg; September 28, 2007, Susp | ......do | Do.
Wardsboro, Town of, Windham County | 500138 | December 23, 1975, Emerg; July 16, 1980, Reg; September 28, 2007, Susp | ......do | Do.
Weathersfield, Town of, Windsor County | 500156 | September 22, 1975, Emerg; September 18, 1985, Reg; September 28, 2007, Susp | ......do | Do.
West Windsor, Town of, Windsor County | 500301 | March 11, 1976, Emerg; June 17, 1991, Reg; September 28, 2007, Susp | ......do | Do.
Westminster, Town of, Windham County | 500139 | July 25, 1975, Emerg; January 3, 1985, Reg; September 28, 2007, Susp | ......do | Do.
Weston, Town of, Windsor County | 500157 | July 25, 1974, Emerg; April 1, 1992, Reg; September 28, 2007, Susp | ......do | Do.
Whitingham, Town of, Windham County | 500141 | September 10, 1975, Emerg; September 18, 1985, Reg; September 28, 2007, Susp | ......do | Do.
Wilmington, Town of, Windham County | 500142 | May 25, 1973, Emerg; May 1, 1978, Reg; September 28, 2007, Susp | ......do | Do.
Windsor, Town of, Windsor County | 500159 | August 16, 1974, Emerg; September 28, 1979, Reg; September 28, 2007, Susp | ......do | Do.
Woodstock, Town of, Windsor County | 500160 | April 30, 1974, Emerg; December 15, 1978, Reg; September 28, 2007, Susp | ......do | Do.
Woodstock, Village of, Windsor County | 500161 | March 27, 1974, Emerg; February 15, 1979, Reg; September 28, 2007, Susp | ......do | Do.
Region II
New Jersey:
Audubon, Borough of, Camden County | 340121 | July 3, 1975, Emerg; October 13, 1978, Reg; September 28, 2007, Susp | ......do | Do.
Bedminster, Township of, Somerset County | 340427 | July 26, 1974, Emerg; January 5, 1984, Reg; September 28, 2007, Susp | ......do | Do.
Bellmawr, Borough of, Camden County | 340124 | August 1, 1974, Emerg; February 15, 1980, Reg; September 28, 2007, Susp | ......do | Do.
Berlin, Borough of, Camden County | 340125 | June 10, 1975, Emerg; May 13, 1977, Reg; September 28, 2007, Susp | ......do | Do.
Berlin, Township of, Camden County | 340126 | March 25, 1975, Emerg; February 24, 1978, Reg; September 28, 2007, Susp | ......do | Do.
Bernards, Township of, Somerset County | 340428 | February 4, 1972, Emerg; September 1, 1978, Reg; September 28, 2007, Susp | ......do | Do.
Bernardsville, Borough of, Somerset County | 340429 | December 17, 1971, Emerg; March 1, 1978, Reg; September 28, 2007, Susp | ......do | Do.
Bloomingdale, Borough of, Passaic County | 345284 | October 2, 1970, Emerg; March 10, 1972, Reg; September 28, 2007, Susp | ......do | Do.
Bound Brook, Borough of, Somerset County | 340430 | January 14, 1972, Emerg; August 15, 1983, Reg; September 28, 2007, Susp | ......do | Do.
Branchburg, Township of, Somerset County | 340431 | June 2, 1972, Emerg; June 1, 1978, Reg; September 28, 2007, Susp | ......do | Do.
Bridgewater, Township of, Somerset County | 340432 | November 26, 1971, Emerg; December 1, 1978, Reg; September 28, 2007, Susp | ......do | Do.
Brooklawn, Borough of, Camden County | 340127 | July 16, 1975, Emerg; September 14, 1979, Reg; September 28, 2007, Susp | ......do | Do.
Camden, City of, Camden County | 340128 | May 16, 1975, Emerg; December 1, 1981, Reg; September 28, 2007, Susp | ......do | Do.
Cherry Hill, Township of, Camden County | 340129 | January 14, 1972, Emerg; August 15, 1978, Reg; September 28, 2007, Susp | ......do | Do.
Clementon, Borough of, Camden County | 340130 | January 30, 1975, Emerg; October 21, 1983, Reg; September 28, 2007, Susp | ......do | Do.
Clifton, City of, Passaic County | 340398 | February 19, 1975, Emerg; June 15, 1982, Reg; September 28, 2007, Susp | ......do | Do.
Collingswood, Borough of, Camden County | 340131 | April 9, 1973, Emerg; July 17, 1978, Reg; September 28, 2007, Susp | ......do | Do.
Far Hills, Borough of, Somerset County | 340433 | January 7, 1972, Emerg; July 3, 1978, Reg; September 28, 2007, Susp | ......do | Do.
Franklin, Township of, Somerset County | 340434 | April 6, 1973, Emerg; May 15, 1980, Reg; September 28, 2007, Susp | ......do | Do.
Gibbsboro, Borough of, Camden County | 340545 | July 23, 1975, Emerg; October 15, 1981, Reg; September 28, 2007, Susp | ......do | Do.
Gloucester, City of, Camden County | 340132 | December 19, 1974, Emerg; September 14, 1979, Reg; September 28, 2007, Susp | ......do | Do.
Gloucester, Township of, Camden County | 340133 | July 24, 1975, Emerg; December 1, 1982, Reg; September 28, 2007, Susp | ......do | Do.
Greenbrook, Township of, Somerset County | 340435 | February 25, 1972, Emerg; March 15, 1977, Reg; September 28, 2007, Susp | ......do | Do.
Haddon, Township of, Camden County | 340134 | April 12, 1974, Emerg; March 1, 1982, Reg; September 28, 2007, Susp | ......do | Do.
Haddon Heights, Borough of, Camden County | 340136 | May 27, 1975, Emerg; August 26, 1977, Reg; September 28, 2007, Susp | ......do | Do.
Haddonfield, Borough of, Camden County | 340501 | July 14, 1972, Emerg; April 15, 1977, Reg; September 28, 2007, Susp | ......do | Do.
Haledon, Borough of, Passaic County | 340399 | May 13, 1975, Emerg; March 16, 1981, Reg; September 28, 2007, Susp | ......do | Do.
Hawthorne, Borough of, Passaic County | 340400 | June 28, 1973, Emerg; September 17, 1980, Reg; September 28, 2007, Susp | ......do | Do.
Hillsborough, Township of, Somerset County | 340436 | June 18, 1974, Emerg; March 2, 1981, Reg; September 28, 2007, Susp | ......do | Do.
Laurel Springs, Borough of, Camden County | 340547 | March 23, 1976, Emerg; May 13, 1977, Reg; September 28, 2007, Susp | ......do | Do.
Lawnside, Borough of, Camden County | 340502 | January 15, 1974, Emerg; September 1, 1978, Reg; September 28, 2007, Susp | ......do | Do.
Lindenwold, Borough of, Camden County | 340137 | January 12, 1976, Emerg; September 17, 1980, Reg; September 28, 2007, Susp | ......do | Do.
Little Falls, Township of, Passaic County | 340401 | July 6, 1973, Emerg; August 17, 1981, Reg; September 28, 2007, Susp | ......do | Do.
Magnolia, Borough of, Camden County | 340138 | June 18, 1974, Emerg; November 24, 1978, Reg; September 28, 2007, Susp | ......do | Do.
Manville, Borough of, Somerset County | 340437 | December 15, 1972, Emerg; February 15, 1978, Reg; September 28, 2007, Susp | ......do | Do.
Millstone, Borough of, Somerset County | 340438 | October 29, 1973, Emerg; April 3, 1978, Reg; September 28, 2007, Susp | ......do | Do.
Montgomery, Township of, Somerset County | 340439 | August 20, 1974, Emerg; April 1, 1981, Reg; September 28, 2007, Susp | ......do | Do.
Mount Ephraim, Borough of, Camden County | 340140 | April 15, 1975, Emerg; September 1, 1978, Reg; September 28, 2007, Susp | ......do | Do.
North Haledon, Borough of, Passaic County | 340402 | January 29, 1975, Emerg; July 2, 1981, Reg; September 28, 2007, Susp | ......do | Do.
North Plainfield, City of, Somerset County | 345307 | November 6, 1970, Emerg; August 20, 1971, Reg; September 28, 2007, Susp | ......do | Do.
Oaklyn, Borough of, Camden County | 340141 | September 16, 1975, Emerg; November 3, 1978, Reg; September 28, 2007, Susp | ......do | Do.
Passaic, City of, Passaic County | 340403 | April 9, 1973, Emerg; September 28, 1979, Reg; September 28, 2007, Susp | ......do | Do.
Paterson, City of, Passaic County | 340404 | November 12, 1971, Emerg; February 16, 1977, Reg; September 28, 2007, Susp | ......do | Do.
Peapack and Gladstone, Borough of, Somerset County | 340441 | January 28, 1972, Emerg; December 15, 1977, Reg; September 28, 2007, Susp | ......do | Do.
Pennsauken, Township of, Camden County | 340142 | January 28, 1972, Emerg; April 15, 1977, Reg; September 28, 2007, Susp | ......do | Do.
Pine Hill, Borough of, Camden County | 340143 | March 11, 1975, Emerg; February 24, 1978, Reg; September 28, 2007, Susp | ......do | Do.
Pompton Lakes, Borough of, Passaic County | 345528 | June 5, 1970, Emerg; September 4, 1970, Reg; September 28, 2007, Susp | ......do | Do.
Prospect Park, Borough of, Passaic County | 340406 | August 7, 1975, Emerg; April 3, 1978, Reg; September 28, 2007, Susp | ......do | Do.
Raritan, Borough of, Somerset County | 340442 | December 10, 1974, Emerg; December 15, 1981, Reg; September 28, 2007, Susp | ......do | Do.
Ringwood, Borough of, Passaic County | 340407 | June 18, 1975, Emerg; February 3, 1982, Reg; September 28, 2007, Susp | ......do | Do.
Rocky Hill, Borough of, Somerset County | 340443 | July 15, 1975, Emerg; December 16, 1980, Reg; September 28, 2007, Susp | ......do | Do.
Runnemede, Borough of, Camden County | 340144 | August 7, 1973, Emerg; January 2, 1980, Reg; September 28, 2007, Susp | ......do | Do.
Somerdale, Borough of, Camden County | 340145 | December 17, 1971, Emerg; February 1, 1979, Reg; September 28, 2007, Susp | ......do | Do.
Somerville, Borough of, Camden County | 340444 | May 22, 1975, Emerg; January 6, 1983, Reg; September 28, 2007, Susp | ......do | Do.
South Bound Brook, Borough of, Camden County | 340445 | February 12, 1975, Emerg; September 30, 1982, Reg; September 28, 2007, Susp | ......do | Do.
Stratford, Borough of, Camden County | 340146 | March 21, 1975, Emerg; September 17, 1980, Reg; September 28, 2007, Susp | ......do | Do.
Totowa, Borough of, Passaic County | 340408 | May 23, 1975, Emerg; August , 1985, Reg; September 28, 2007, Susp | ......do | Do.
Voorhees, Township of, Camden County | 340538 | August 2, 1974, Emerg; September 1, 1978, Reg; September 28, 2007, Susp | ......do | Do.
Wanaque, Borough of, Passaic County | 340409 | August 12, 1974, Emerg; January 16, 1981, Reg; September 28, 2007, Susp | ......do | Do.
Warren, Township of, Somerset County | 340446 | February 4, 1972, Emerg; January 5, 1978, Reg; September 28, 2007, Susp | ......do | Do.
Watchung, Borough of, Somerset County | 340447 | September 17, 1973, Emerg; December 4, 1979, Reg; September 28, 2007, Susp | ......do | Do.
Waterford, Township of, Camden County | 340147 | July 15, 1975, Emerg; April 29, 1983, Reg; September 28, 2007, Susp | ......do | Do.
Wayne, Township of, Passaic County | 345327 | July 10, 1970, Emerg; February 16, 1972, Reg; September 28, 2007, Susp | ......do | Do.
West Milford, Township of, Passaic County | 340411 | April 28, 1975, Emerg; January 16, 1981, Reg; September 28, 2007, Susp | ......do | Do.
West Paterson, Borough of, Passaic County | 340412 | June 25, 1975, Emerg; December 15, 1981, Reg; September 28, 2007, Susp | ......do | Do.
Winslow, Township of, Camden County | 340148 | July 31, 1975, Emerg; January 20, 1982, Reg; September 28, 2007, Susp | ......do | Do.
Woodlynne, Borough of, Camden County | 340149 | June 24, 1975, Emerg; December 1, 1981, Reg; September 28, 2007, Susp | ......do | Do.
New York:
Ardsley, Village of, Westchester County | 360902 | December 30, 1971, Emerg; September 29, 1978, Reg; September 28, 2007, Susp | ......do | Do.
Beekmantown, Town of, Clinton County | 360166 | December 15, 1976, Emerg; May 4, 1987, Reg; September 28, 2007, Susp | ......do | Do.
Black Brook, Town of, Clinton County | 361309 | January 19, 1976, Emerg; August 15, 1983, Reg; September 28, 2007, Susp | ......do | Do.
Briarcliff Manor, Village of, Westchester County | 360904 | May 23, 1973, Emerg; February 1, 1978, Reg; September 28, 2007, Susp | ......do | Do.
Bronxville, Village of, Westchester County | 360905 | March 16, 1973, Emerg; March 1, 1979, Reg; September 28, 2007, Susp | ......do | Do.
Buchanan, Village of, Westchester County | 361534 | June 28, 1977, Emerg; July 27, 1979, Reg; September 28, 2007, Susp | ......do | Do.
Dobbs Ferry, Village of, Westchester County | 360908 | August 10, 1976, Emerg; April 16, 1979, Reg; September 28, 2007, Susp | ......do | Do.
Ellenburg, Town of, Clinton County | 361382 | May 23, 1984, Emerg; March 4, 1986, Reg; September 28, 2007, Susp | ......do | Do.
Elmsford, Village of, Westchester County | 360910 | June 27, 1975, Emerg; June 15, 1979, Reg; September 28, 2007, Susp | ......do | Do.
Greenburgh, Town of, Westchester County | 360911 | February 23, 1973, Emerg; August 15, 1980, Reg; September 28, 2007, Susp | ......do | Do.
Harrison, Town of, Westchester County | 360912 | February 2, 1973, Emerg; March 15, 1982, Reg; September 28, 2007, Susp | ......do | Do.
Hastings-on-Hudson, Village of, Westchester County | 360913 | January 23, 1975, Emerg; April 2, 1979, Reg; September 28, 2007, Susp | ......do | Do.
Irvington, Village of, Westchester County | 360914 | June 28, 1974, Emerg; March 15, 1979, Reg; September 28, 2007, Susp | ......do | Do.
Keeseville, Village of, Clinton and Essex County | 360266 | May 29, 1980, Emerg; June 5, 1985, Reg; September 28, 2007, Susp | ......do | Do.
Larchmont, Village of, Westchester County | 360915 | February 4, 1972, Emerg; September 1, 1977, Reg; September 28, 2007, Susp | ......do | Do.
Lewisboro, Town of, Westchester County | 361227 | September 12, 1975, Emerg; March 9, 1984, Reg; September 28, 2007, Susp | ......do | Do.
Mount Kisco, Village of, Westchester County | 360918 | March 8, 1976, Emerg; September 18, 1986, Reg; September 28, 2007, Susp | ......do | Do.
Mount Vernon, City of, Westchester County | 360920 | April 22, 1975, Emerg; October 17, 1978, Reg; September 28, 2007, Susp | ......do | Do.
New Rochelle, City of, Westchester County | 360922 | April 27, 1973, Emerg; June 18, 1980, Reg; September 28, 2007, Susp | ......do | Do.
North Castle, Town of, Westchester County | 360923 | June 12, 1975, Emerg; December 2, 1983, Reg; September 28, 2007, Susp | ......do | Do.
Ossining, Village of, Westchester County | 361021 | October 18, 1974, Emerg; July 5, 1982, Reg; September 28, 2007, Susp | ......do | Do.
Peekskill, City of, Westchester County | 360924 | July 7, 1975, Emerg; August 15, 1984, Reg; September 28, 2007, Susp | ......do | do.
Pelham, Village of, Westchester County | 360925 | September 8, 1975, Emerg; April 2, 1979, Reg; September 28, 2007, Susp | ......do | Do.
Pelham Manor, Village of, Westchester County | 360926 | November 11, 1974, Emerg; January 3, 1979, Reg; September 28, 2007, Susp | ......do | Do.
Peru, Town of, Clinton County | 361384 | April 16, 1976, Emerg; May 4, 1987, Reg; September 28, 2007, Susp | ......do | Do.
Plattsburg, Town of, Clinton County | 360169 | May 25, 1973, Emerg; September 28, 1979, Reg; September 28, 2007, Susp | ......do | Do.
Port Chester, Village of, Westchester County | 360928 | June 20, 1973, Emerg; January 16, 1980, Reg; September 28, 2007, Susp | ......do | Do.
Pound Ridge, Town of, Westchester County | 360929 | April 21, 1975, Emerg; May 25, 1984, Reg; September 28, 2007, Susp | ......do | Do.
Rouses Point, Village of, Clinton County | 360170 | August 12, 1975, Emerg; August 4, 1987, Reg; September 28, 2007, Susp | ......do | Do.
Rye, City of, Westchester County | 360931 | April 23, 1974, Emerg; April 1, 1980, Reg; September 28, 2007, Susp | ......do | Do.
Rye Brook, Village of, Westchester County | 360930 | July 26, 1973, Emerg; September 28, 1979, Reg; September 28, 2007, Susp | ......do | Do.
Scarsdale, Village of, Westchester County | 360932 | April 25, 1973, Emerg; June 18, 1980, Reg; September 28, 2007, Susp | ......do | Do.
Sleepy Hollow, Village of, Westchester County | 361515 | September 12, 1975, Emerg; August 17, 1981, Reg; September 28, 2007, Susp | ......do | Do.
Tuckahoe, Village of, Westchester County | 360934 | July 2, 1975, Emerg; February 15, 1979, Reg; September 28, 2007, Susp | ......do | Do.
White Plains, City of, Westchester County | 360935 | October 20, 1972, Emerg; January 2, 1980, Reg; September 28, 2007, Susp | ......do | Do.
Yonkers, City of, Westchester County | 360936 | April 13, 1973, Emerg; August 15, 1980, Reg; September 28, 2007, Susp | ......do | Do.
Yorktown, Town of, Westchester County | 360937 | March 28, 1975, Emerg; November 15, 1985, Reg; September 28, 2007, Susp | ......do | Do.
Region III
Pennsylvania:
Buffalo, Township of, Union County | 421237 | March 17, 1975, Emerg; April 1, 1977, Reg; September 28, 2007, Susp | ......do | Do.
East Buffalo, Township of, Union County | 421011 | April 24, 1973, Emerg; February 2, 1977, Reg; September 28, 2007, Susp | ......do | Do.
Gregg, Township of, Union County | 420830 | May 11, 1973, Emerg; September 28, 1979, Reg; September 28, 2007, Susp | ......do | Do.
Kelly, Township of, Union County | 422103 | September 19, 1974, Emerg; March 1, 1977, Reg; September 28, 2007, Susp | ......do | Do.
Lewis, Township of, Union County | 422104 | July 29, 1976, Emerg; September 30, 1987, Reg; September 28, 2007, Susp | ......do | Do.
Lewisburg, Borough of, Union County | 420831 | November 3, 1972, Emerg; February 2, 1977, Reg; September 28, 2007, Susp | ......do | Do.
Limestone, Township of, Union County | 422105 | February 13, 1975, Emerg; March 4, 1988, Reg; September 28, 2007, Susp | ......do | Do.
Mifflinburg, Borough of, Union County | 420832 | May 2, 1975, Emerg; March 4, 1988, Reg; September 28, 2007, Susp | ......do | Do.
New Berlin, Borough of, Union County | 420833 | November 21, 1975, Emerg; April 30, 1986, Reg; September 28, 2007, Susp | ......do | Do.
Union, Township of, Union County | 420834 | July 5, 1973, Emerg; August 1, 1979, Reg; September 28, 2007, Susp | ......do | Do.
West Buffalo, Township of, Union County | 422106 | June 4, 1979, Emerg; September 30, 1987, Reg; September 28, 2007, Susp | ......do | Do.
White Deer, Township of, Union County | 421034 | October 4, 1973, Emerg; September 28, 1979, Reg; September 28, 2007, Susp | ......do | Do.
Virginia:
Augusta County, Unincorporated Areas | 510013 | July 24, 1974, Emerg; May 17, 1990, Reg; September 28, 2007, Susp | ......do | Do.
Berryville, Town of, Clarke County | 510037 | March 17, 1975, Emerg; April 1, 1988, Reg; September 28, 2007, Susp | ......do | Do.
Clarke County, Unincorporated Areas | 510036 | October 13, 1972, Emerg; September 24, 1984, Reg; September 28, 2007, Susp | ......do | Do.
Craigsville, Town of, Augusta County | 510014 | May 14, 1974, Emerg; April 15, 1986, Reg; September 28, 2007, Susp | ......do | Do.
James City, Unincorporated Areas | 510201 | October 20, 1975, Emerg; February 6, 1991, Reg; September 28, 2007, Susp | ......do | Do.
Roanoke, City of, Roanoke County | 510130 | September 11, 1973, Emerg; November 4, 1981, Reg; September 28, 2007, Susp | ......do | Do.
Roanoke County, Unincorporated Areas | 510190 | October 11, 1973, Emerg; October 17, 1978, Reg; September 28, 2007, Susp | ......do | Do.
Salem, City of, Roanoke County | 510141 | March 8, 1974, Emerg; September 2, 1981, Reg; September 28, 2007, Susp | ......do | Do.
Stauton, City of, Independent City | 510155 | December 24, 1974, Emerg; December 1, 1978, Reg; September 28, 2007, Susp | ......do | Do.
Vinton, Town of, Roanoke County | 510131 | March 6, 1974, Emerg; March 15, 1978, Reg; September 28, 2007, Susp | ......do | Do.
Waynesboro, City of, Independent City | 515532 | June 19, 1970, Emerg; July 2, 1971, Reg; September 28, 2007, Susp | ......do | Do.
Williamsburg, City of, James City County | 510294 | October 29, 1975, Emerg; November 20, 1981, Reg; September 28, 2007, Susp | ......do | Do.
Region IV
Alabama:
Calhoun County, Unincorporated Areas | 010013 | September 22, 1975, Emerg; September 15, 1983, Reg; September 28, 2007, Susp | ......do | Do.
Moundville, Town of, Tuscaloosa County | 010096 | October 11, 1974, Emerg; July 18, 1985, Reg; September 28, 2007, Susp | ......do | Do.
Piedmont, City of, Calhoun County | 010024 | June 25, 1975, Emerg; June 15, 1984, Reg; September 28, 2007, Susp | ......do | Do.
Florida:
Altamonte Springs, City of, Seminole County | 120290 | October 9, 1974, Emerg; March 18, 1980, Reg; September 28, 2007, Susp | ......do | Do.
Casselberry, City of, Seminole County | 120291 | September 11, 1974, Emerg; July 2, 1980, Reg; September 28, 2007, Susp | ......do | Do.
Lake Mary, City of, Seminole County | 120416 | September 10, 1976, Emerg; March 18, 1980, Reg; September 28, 2007, Susp | ......do | Do.
Longwood, City of, Seminole County | 120292 | March 12, 1975, Emerg; March 18, 1980, Reg; September 28, 2007, Susp | ......do | Do.
Seminole County, Unincorporated Areas | 120289 | May 29, 1974, Emerg; May 5, 1981, Reg; September 28, 2007, Susp | ......do | Do.
Wewahitchka, City of, Gulf County | 120100 | May 19, 1976, Emerg; May, 17, 1982, Reg; September 28, 2007, Susp | ......do | Do.
Georgia:
Adairsville, Town of, Bartown County | 130235 | January 5, 1979, Emerg; July 30, 1982, Reg; September 28, 2007, Susp | ......do | Do.
Blairsville, Town of, Union County | 130179 | September 16, 1991, Emerg; June 1, 2005, Reg; September 28, 2007, Susp | ......do | Do.
Emerson, City of, Bartown County | 130276 | April 19, 1976, Emerg; October 8, 1982, Reg; September 28, 2007, Susp | ......do | Do.
Union County, Unincorporated Areas | 130254 | October 26, 1984, Emerg; March 1, 1986, Reg; September 28, 2007, Susp | ......do | Do.
White, City of, Bartown County | 130278 | June 18, 1976, Emerg; June 4, 1982, Reg; September 28, 2007, Susp | ......do | Do.
Kentucky:
Clay County, Unincorporated Areas | 210057 | May 22, 1984, Emerg; January 1, 1987, Reg; September 28, 2007, Susp | ......do | Do.
Frankfort, City of, Franklin County | 210075 | April 23, 1974, Emerg; July 2, 1981, Reg; September 28, 2007, Susp | ......do | Do.
Franklin County, Unincorporated Areas | 210280 | January 23, 1976, Emerg; September 30, 1981, Reg; September 28, 2007, Susp | ......do | Do.
Manchester, City of, Clay County | 210058 | September 2, 1975, Emerg; July 2, 1987, Reg; September 28, 2007, Susp | ......do | Do.
Mississippi:
Ackerman, Town of, Choctaw County | 280032 | April 1, 1975, Emerg; July 3, 1986, Reg; September 28, 2007, Susp | ......do | Do.
North Carolina:
Belmont, City of, Gaston County | 370320 | March 26, 1976, Emerg; November 1 ,1979, Reg; September 28, 2007, Susp | ......do | Do.
Bessemer City, City of, Gaston County | 370526 | November 26, 2002, Emerg; March 3, 2003, Reg; September 28, 2007, Susp | ......do | Do.
Caswell County, Unincorporated Areas | 370300 | September 6, 2002, Emerg, Reg; September 28, 2007, Susp | ......do | Do.
Cramerton, Town of, Gaston County | 370321 | May 21, 1992, Emerg; May 21, 1992, Reg; September 28, 2007, Susp | ......do | Do.
Dallas, Town of, Gaston County | 370322 | October 7, 1992, Emerg; May 1, 1994, Reg; September 28, 2007, Susp | ......do | Do.
Gaston County, Unincorporated Areas | 370099 | April 16, 1976, Emerg; May 1, 1980, Reg; September 28, 2007, Susp | ......do | Do.
Gastonia, City of, Gaston County | 370100 | November 26, 1973, Emerg; February 1, 1978, Reg; September 28, 2007, Susp | ......do | Do.
Lowell, City of, Gaston County | 370323 | September 15, 1987, Emerg; March 5, 1990, Reg; September 28, 2007, Susp | ......do | Do.
Mcadenville, Town of, Gaston County | 370101 | September 7, 1979, Emerg; June 1, 1987, Reg; September 28, 2007, Susp | ......do | Do.
Mount Holly, City of, Gaston County | 370102 | January 15, 1974, Emerg; September 28, 1979, Reg; September 28, 2007, Susp | ......do | Do.
Ranlo, Town of, Gaston County | 370324 | December 19, 1989 Emerg; March 3, 2003, Reg; September 28, 2007, Susp | ......do | Do.
Yanceyville, Town of, Caswell County | 370641 | February 8, 2005, Emerg, Reg; September 28, 2007, Susp | ......do | Do.
Tennessee:
Bartlett, City of, Shelby County | 470175 | December 28, 1973, Emerg; June 15, 1981, Reg; September 28, 2007, Susp | ......do | Do.
Bolivar, City of, Hardeman County | 470081 | September 6, 1985, Emerg; August 19, 1987, Reg; September 28, 2007, Susp | ......do | Do.
Chapel Hill, Town of, Marshall County | 470120 | June 14, 2002, Emerg; June 14, 2002, Reg; September 28, 2007, Susp | ......do | Do.
Chester County, Unincorporated Areas | 470348 | November 17, 1994, Emerg; , Reg; September 28, 2007, Susp | ......do | Do.
Collierville, Town of, Shelby County | 470263 | September 29, 1975, Emerg; September 30, 1981, Reg; September 28, 2007, Susp | ......do | Do.
Cornersville, Town of, Marshall County | 470325 | June 18, 1984, Emerg; September 1, 1986, Reg; September 28, 2007, Susp | ......do | Do.
Gates, Town of, Lauderdale County | 470258 | September 16, 1975, Emerg; July 2, 1987, Reg; September 28, 2007, Susp | ......do | Do.
Germantown, City of, Shelby County | 470353 | October 1, 1975, Emerg; January 20, 1982, Reg; September 28, 2007, Susp | ......do | Do.
Giles County, Unincorporated Areas | 470063 | April 16, 1999, Emerg; April 16, 1999, Reg; September 28, 2007, Susp | ......do | Do.
Halls, Town of, Lauderdale County | 470231 | April 30, 1975, Emerg; March 18, 1987, Reg; September 28, 2007, Susp | ......do | Do.
Harriman, City of, Roane County | 475427 | September 18, 1970, Emerg; February 26, 1971, Reg; September 28, 2007, Susp | ......do | Do.
Henderson, City of, Chester County | 470029 | July 25, 1975, Emerg; March 18, 1986, Reg; September 28, 2007, Susp | ......do | Do.
Henning, Town of, Lauderdale County | 470259 | July 21, 1986, Emerg; March 4, 1988, Reg; September 28, 2007, Susp | ......do | Do.
Huntsville, Town of, Scott County | 470397 | September 26, 1988, Emerg; September 29, 1989, Reg; September 28, 2007, Susp | ......do | Do.
Lauderdale County, Unincorporated Areas | 470333 | April 14, 1975, Emerg; September 30, 1987, Reg; September 28, 2007, Susp | ......do | Do.
Lynnville, City of, Giles County | 470065 | February 19, 1999, Emerg; July 1, 2000, Reg; September 28, 2007, Susp | ......do | Do.
Memphis, City of, Shelby County | 470177 | August 23, 1974, Emerg; December 1, 1982, Reg; September 28, 2007, Susp | ......do | Do.
Millington, City of, Shelby County | 470178 | November 1, 1974, Emerg; March 16, 1981, Reg; September 28, 2007, Susp | ......do | Do.
Oneida, Town of, Scott County | 470170 | June 24, 1975, Emerg; June 17, 1986, Reg; September 28, 2007, Susp | ......do | Do.
Pulaski, City of, Giles County | 470067 | April 14, 1975, Emerg; January 16, 1987, Reg; September 28, 2007, Susp | ......do | Do.
Ripley, Town of, Lauderdale County | 470100 | January 23, 1975, Emerg; May 19, 1987, Reg; September 28, 2007, Susp | ......do | Do.
Rockwood, City of, Roane County | 475443 | May 15, 1970, Emerg; May 15, 1970, Reg; September 28, 2007, Susp | ......do | Do.
Shelby County, Unincorporated Areas | 470214 | May 15, 1974, Emerg; December 1, 1982, Reg; September 28, 2007, Susp | ......do | Do.
Sparta, City of, White County | 470203 | March 14, 1974, Emerg; November 2, 1977, Reg; September 28, 2007, Susp | ......do | Do.
Region VI
Arkansas:
Benton County, Unincorporated Areas | 050419 | April 29, 1988, Emerg; September 18, 1991, Reg; September 28, 2007, Susp | ......do | Do.
Bentonville, City of, Benton County | 050012 | January 3, 1975, Emerg; July 16, 1980, Reg; September 28, 2007, Susp | ......do | Do.
Bethel Heights, Town of, Benton County | 050386 | April 19, 1996, Emerg; April 19, 1996, Reg; September 28, 2007, Susp | ......do | Do.
Calion, City of, Union County | 050206 | October 25, 1974, Emerg; July 2, 1980, Reg; September 28, 2007, Susp | ......do | Do.
Centerton, City of, Benton County | 050399 | August 14, 1975, Emerg; August 24, 1982, Reg; September 28, 2007, Susp | ......do | Do.
Decatur, City of, Benton County | 050319 | March 10, 1976, Emerg; January 3, 1986, Reg; September 28, 2007, Susp | ......do | Do.
Elm Springs, City of, Washington County | 050213 | May 15, 1975, Emerg; April 30, 1986, Reg; September 28, 2007, Susp | ......do | Do.
Felsenthal, Town of, Union County | 050574 | March 30, 1982, Emerg; June 19, 1985, Reg; September 28, 2007, Susp | ......do | Do.
Gentry, City of, Benton County | 050324 | March 11, 2005, Emerg; March 11, 2005, Reg; September 28, 2007, Susp | ......do | Do.
Gravette, City of, Benton County | 050327 | May 17, 1976, Emerg; August 24, 1982, Reg; September 28, 2007, Susp | ......do | Do.
Highfill, Town of, Benton County | 050581 | July 22, 2003, Emerg; July 22, 2003, Reg; September 28, 2007, Susp | ......do | Do.
Huttig, City of, Union County | 050208 | June 23, 1975, Emerg; June 4, 1980, Reg; September 28, 2007, Susp | ......do | Do.
Lowell, City of, Benton County | 050342 | June 1, 1976, Emerg; August 19, 1987, Reg; September 28, 2007, Susp | ......do | Do.
Norphlet, City of, Union County | 050356 | May 5, 1975, Emerg; June 1, 1987, Reg; September 28, 2007, Susp | ......do | Do.
Pea Ridge, City of, Benton County | 050361 | November 7, 1975, Emerg; September 1, 1987, Reg; September 28, 2007, Susp | ......do | Do.
Rogers, City of, Benton County | 050013 | June 12, 1975, Emerg; March 2, 1981, Reg; September 28, 2007, Susp | ......do | Do.
Siloam Springs, City of, Benton County | 050014 | April 14, 1975, Emerg; November 19, 1980, Reg; September 28, 2007, Susp | ......do | Do.
Smackover, City of, Union County | 050209 | May 13, 1975, Emerg; July 2, 1980, Reg; September 28, 2007, Susp | ......do | Do.
Springdale, City of, Benton County | 050219 | September 26, 1974, Emerg; June 15, 1981, Reg; September 28, 2007, Susp | ......do | Do.
Strong, City of, Union County | 050210 | February 11, 1975, Emerg; April 1, 1981, Reg; September 28, 2007, Susp | ......do | Do.
Union County, Unincorporated Areas | 050205 | February 7, 1983, Emerg; March 1, 1987, Reg; September 28, 2007, Susp | ......do | Do.
Region VII
Missouri:
Gainesville, City of, Ozark County | 290273 | August 20, 1975, Emerg; August 19, 1986, Reg; September 28, 2007, Susp | ......do | Do.
Theodosia, Village of, Ozark County | 290306 | January 25, 2006, Emerg; -, Reg; September 28, 2007, Susp | ......do | Do.
Region VIII
Montana:
Flathead County, Unincorporated Areas | 300023 | October 31, 1975, Emerg; September 5, 1984, Reg; September 28, 2007, Susp | ......do | Do.
Columbia Falls, City of, Flathead County | 300024 | June 25, 1974, Emerg; October 15, 1985, Reg; September 28, 2007, Susp | ......do | Do.
Whitefish, City of, Flathead County | 300026 | June 25, 1974, Emerg; October 15, 1985, Reg; September 28, 2007, Susp | ......do | Do.
South Dakota:
Watertown, City of, Codington County | 460016 | February 20, 1975, Emerg; July 4, 1989, Reg; September 28, 2007, Susp | ......do | Do.
Wyoming:
Hulett, Town of, Crook County | 560016 | May 21, 1997, Emerg; April 1, 1999, Reg; September 28, 2007, Susp | ......do | Do.
Region IX
Arizona:
Apache County, Unincorporated Areas | 040001 | April 11, 1975, Emerg; July 5, 1982, Reg; September 28, 2007, Susp | ......do | Do.
Clifton, Town of, Greenlee County | 040035 | January 17, 1975, Emerg; March 1, 1984, Reg; September 28, 2007, Susp | ......do | Do.
Greenlee County, Unincorporated Areas | 040110 | December 29, 1978, Emerg; July 18, 1985, Reg; September 28, 2007, Susp | ......do | Do.
Region X
Oregon:
Bend, City of, Deschutes County | 410056 | March 12, 1975, Emerg; September 4, 1987, Reg; September 28, 2007, Susp | ......do | Do.
Sisters, City of, Deschutes County | 410058 | August 14, 1975, Emerg; September 29, 1986, Reg; September 28, 2007, Susp | ......do | Do.
*do = Ditto.
Code for reading third column: Emerg.—Emergency; Reg.—Regular; Susp.—Suspension.

Dated: September 17, 2007.
Michael K. Buckley,
Deputy Assistant Administrator, Mitigation, Department of Homeland Security, Federal Emergency Management Agency.

[FR Doc. E7-18952 Filed 9-25-07; 8:45 am]

BILLING CODE 9110-12-P